DEPARTMENT OF ENERGY

Federal Energy Regulatory Commission

[Project No. 7580-003]

South Sutter Water District; Notice of Application for Surrender of Conduit Exemption, Soliciting Comments, Motions To Intervene, and Protests

Take notice that the following hydroelectric application has been filed with the Commission and is available for public inspection:

a. Type of Proceeding: Application for surrender of conduit exemption from licensing.

b. Project No.: 7580-003.

c. Date Filed: December 31, 2019.

d. Exemptee: South Sutter Water District (SSWD).

e. Name of Project: Vanjop No. 1 Hydroelectric Project.

f. Location: The project is located on SSWD's Conveyance Canal which is part of SSWD's water delivery system near Sheridan in Placer County, California.

g. Filed Pursuant to: Federal Power Act, 16 U.S.C. 791a-825r.

h. Licensee Contact: Brad Arnold, General Manager, South Suter Water District, 2464 Pacific Avenue, Trowbridge, CA 95659, (530) 656-2242 sswd@hughes.net.

i. FERC Contact: Kim Nguyen, (202) 502-6105, Kim.Nguyen@ferc.gov.

j. Deadline for filing comments, interventions, and protests is April 3, 2020. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-7580-003.

k. Description of Project Facilities: The project consists of a radial gate, a bypass gate, an intake structure, a catch basin, a discharge structure, three turbine-generator units with total generating capacity of 415 kilowatts, and a short transmission line.

l. Description of Request: The licensee is proposing to surrender its exemption. The project operated until 2018 when significant repairs necessitated an extended outage until now. SSWD evaluated repair along with future operations and maintenance costs for the project, and concluded that the project is no longer economical, especially since the power purchase contract with Pacific Gas and Electric expired on October 14, 2019. The facilities would remain in place, except for the turbine-generator units which would be removed.

m. This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE, Room 2A, Washington, DC 20426, or by calling (202) 502-8371.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the surrender application that is the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

q. Agency Comments—Federal, state, and local agencies are invited to file comments on the described proceeding. If any agency does not file comments within the time specified for filing comments, it will be presumed to have no comments.

Dated: March 4, 2020.
Kimberly D. Bose,
Secretary.

[FR Doc. 2020-04899 Filed 3-10-20; 8:45 am]

BILLING CODE 6717-01-P